DEPARTMENT OF HEALTH AND HUMAN SERVICES

Administration for Children and Families

Submission for OMB Review; Comment Request

Title: Permanency Innovations Initiative Evaluation: Phase 3.

OMB No.: 0970-0408.

Description: The Administration for Children and Families (ACF), U.S. Department of Health and Human Services (HHS) intends to collect data for an evaluation of the Permanency Innovations Initiative (PII). This 5-year initiative, funded by the Children's Bureau (CB) within ACF, is intended to build the evidence base for innovative interventions that enhance well-being and improve permanency outcomes for particular groups of children and youth who are at risk for long-term foster care and who experience the most serious barriers to timely permanency. The CB funded six grantees to identify local barriers to permanent placement and implement innovative strategies that mitigate or eliminate those barriers and reduce the likelihood that children will remain in foster care for 3 years or longer. In addition, evaluation plans were developed to support rigorous site-specific and cross-site studies to document the implementation and effectiveness of the grantees' projects and the initiative overall.

Data collection for the PII evaluation includes a number of components being launched at different points in time. Phase 1 included data collection for a cross-site implementation evaluation and site-specific evaluations of two PII grantees (approved August 2012; Washoe County, Nevada, and the State of Kansas). Phase 2 (approved August 2013) included data collection for site-specific evaluations of two PII grantees: Illinois Department of Children and Family Services (DCFS) and the Los Angeles Gay and Lesbian Center's Recognize Intervene Support Empower (RISE) project. Phase 3 includes data collection for a cross-site cost study, additional data collection components for the RISE project, and a cross-site administrative data study assessing outcomes. Phase 4 will include data collection for the California Department of Social Services' California Partnership for Permanency (CAPP) project. Data for the evaluations are collected through surveys of children, youth, foster parents, guardians, biological parents, permanency resources, and caseworkers, supervisors, administrators/managers, and other agency staff. The administrative data study does not impose any new data collection requirements but uses data already compiled and reported by the states.

Respondents: Children/youth and their parents, guardians, permanency resources, or foster caregivers; caseworkers, supervisors, administrators/managers, or other agency staff.

Annual Burden Estimates
Instrument | Annual number of respondents | Number of responses per respondent | Average burden hours per response | Total annual burden hours
RISE CCT Youth Interview (ages 11-19) | 22 | 2 | 1.3 | 57
RISE CCT Qualitative Youth Interview (ages 11-19) | 22 | 1 | 1.2 | 26
RISE CCT Facilitator Interview (Facilitator Burden) | 2 | 4 | 0.2 | 2
RISE CCT Facilitator Interview (Child burden) | 3 | 2 | .5 | 3
RISE CCT Facilitator Survey | 2 | 21 | 0.2 | 8
RISE CCT Facilitator submission of CAFAS data ¹ | 2 | 21 | 0.1 | 4
RISE CCT Permanency Resource Interview | 11 | 2 | 1.0 | 22
RISE CCT Interview with Current Caregiver | 11 | 2 | 0.6 | 13
RISE CCT burden |  |  |  | 135
RISE ORB Staff Follow-Up Survey | 157 | 1 | 0.3 | 47
RISE ORB burden |  |  |  | 47
Cost Study Focus Group Preparation | 9 | 1 | 1.5 | 14
Cost Study Focus Group | 9 | 1 | 4.0 | 36
Trial Administration of Cost Study Activity Logs | 9 | 1 | 1.5 | 14
Weekly Case Work Activity Log | 123 | 52 | 0.4 | 2,558
Weekly Supervision Activity Log | 39 | 52 | 0.4 | 811
Monthly Management/Administration Log | 30 | 12 | 0.5 | 180
Cost study burden |  |  |  | 3,613
Administrative data submission, no added fields | 1 | 12 | 0.3 | 2
Administrative data submission with added fields | 1 | 12 | 0.8 | 10
Administrative data study burden |  |  |  | 12
¹ The CAFAS is administered as part of case planning, so the only burden is in submitting the CAFAS data to the evaluation team.

Estimated Total Annual Burden Hours: 3,807.

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Karl Koerper,
OPRE Reports Clearance Officer.

[FR Doc. 2014-07614 Filed 4-4-14; 8:45 am]

BILLING CODE 4184-01-P